DEPARTMENT OF HOMELAND SECURITY

[Docket No. CISA-2024-0006]

Agency Information Collection Activities: Generic Clearance for the Collection of Qualitative Feedback on Agency Service Delivery

AGENCY: Cybersecurity and Infrastructure Security Agency (CISA), Department of Homeland Security (DHS).

ACTION: 60-Day notice and request for comments; extension of information collection request: 1670-0027.

SUMMARY: The Office of the Chief Information Office (OCIO) within Cybersecurity and Infrastructure Security Agency (CISA) will submit the following Information Collection Request (ICR) to the Office of Management and Budget (OMB) for review and clearance.

DATES: Comments are encouraged and will be accepted until April 15, 2024.

ADDRESSES: You may submit comments, identified by docket number Docket # CISA-2024-0006, at:

○ Federal eRulemaking Portal: http://www.regulations.gov. Please follow the instructions for submitting comments.

Instructions: All submissions received must include the agency name and docket number Docket # CISA-2024-0006. All comments received will be posted without change to http://www.regulations.gov, including any personal information provided.

Docket: For access to the docket to read background documents or comments received, go to http://www.regulations.gov.

FOR FURTHER INFORMATION CONTACT: Benjamin Thomsen, 202-254-7179, CISA.PRA@hq.dhs.gov.

SUPPLEMENTARY INFORMATION: The information collection activity provides a means to garner qualitative customer and stakeholder feedback in an efficient, timely manner, in accordance with the Administration's commitment to improving service delivery. CISA is planning to submit this collection to OMB for approval. By qualitative feedback we mean information that provides useful insights on perceptions and opinions but are not statistical surveys that yield quantitative results that can be generalized to the population of study.

This feedback will provide insights into customer or stakeholder perceptions, experiences, and expectations, provide an early warning of issues with service, or focus attention on areas where communication, training or changes in operations might improve delivery of products or services.

These collections will allow for ongoing, collaborative, and actionable communications between CISA and its customers and stakeholders. It will also allow feedback to contribute directly to the improvement of program management.

The solicitation of feedback will target areas such as: Timeliness, appropriateness, accuracy of information, courtesy, efficiency of service delivery, and resolution of issues with service delivery. Responses will be assessed to plan and inform efforts to improve or maintain the quality of service offered to the public.

If this information is not collected, vital feedback from customers and stakeholders on CISA's services will be unavailable. CISA will only submit a collection for approval under this generic clearance if it meets the following conditions:

1. The collections are voluntary;

2. The collections are low-burden for respondents (based on considerations of total burden hours, total number of respondents, or burden-hours per respondent) and are low-cost for both the respondents and the Federal Government;

3. The collections are noncontroversial and do not raise issues of concern to other Federal agencies;

4. Any collection is targeted to the solicitation of opinions from respondents who have experience with the program or may have experience with the program in the near future;

5. Personally identifiable information is collected only to the extent necessary and is not retained;

6. Information gathered is intended to be used only internally for general service improvement and program management purposes and is not intended for release outside of the CISA (if released, CISA must indicate the qualitative nature of the information);

7. Information gathered will not be used for the purpose of substantially informing influential policy decisions; and

8. Information gathered will yield qualitative information; the collections will not be designed or expected to yield statistically reliable results or used as though the results are generalizable to the population of study.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential nonresponse bias, the protocols for data collection, and any testing procedures that were or will be undertaken prior fielding the study. Depending on the degree of influence the results are likely to have, such collections may still be eligible for submission for other generic mechanisms that are designed to yield quantitative results.

As a general matter, information collections will not result in any new system of records containing personal information and will not ask questions of a sensitive nature, such as sexual behavior and attitudes, religious beliefs, and other matters that are commonly considered private.

This is an extension of an existing information collection that was initially approved by OMB on 10/05/2014. The evaluation form's most recent approval obtained on 5/14/2021 to expire on 5/31/2024. There are no substantial changes to the extension request for approval.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Cybersecurity and Infrastructure Security Agency (CISA), Department of Homeland Security (DHS).

Title: Generic Clearance for the Collection of Qualitative Feedback on Agency Service Delivery.

OMB Number: 1670-0027.

Frequency: Annually.

Affected Public: State, local, Tribal, and Territorial governments and private sector.

Number of Respondents: 2,500,630.

Estimated Time per Respondent: Between 0.05 hours and 1 hour.

Total Burden Hours: 125,180.

Annualized Respondent Cost: $5,273,145.

Total Annualized Respondent Out-of-Pocket Cost: $0.

Total Annualized Government Cost: $200,000.

Robert J. Costello,
Chief Information Officer, Cybersecurity and Infrastructure Security Agency, Department of Homeland Security.

[FR Doc. 2024-03146 Filed 2-14-24; 8:45 am]

BILLING CODE 9110-9P-P